FEDERAL RETIREMENT THRIFT INVESTMENT BOARD

Sunshine Act Meeting Notice

Time and Date: 10 a.m. (Eastern Time); December 13, 2010.

Place: 4th Floor Conference Room, 1250 H Street, NW., Washington, DC 20005.

Status: Open to the public.

Matters To Be Considered

1. Approval of the minutes of the November 16, 2010 Board member meeting.

2. Thrift Savings Plan activity report by the Executive Director.

a. Monthly Participant Activity Report.

b. Monthly Investment Performance Report.

c. Legislative Report.

Contact Person for More Information: Thomas J. Trabucco, Director, Office of External Affairs, (202) 942-1640.

Dated: December 6, 2010.
Thomas K. Emswiler,
Secretary, Federal Retirement Thrift Investment Board.

[FR Doc. 2010-30969 Filed 12-6-10; 4:15 pm]

BILLING CODE 6760-01-P